Title 3—

The President

Proclamation 8019 of May 16, 2006

Prayer for Peace, Memorial Day, 2006

By the President of the United States of America

A Proclamation

Throughout our history, the men and women who have worn the uniform of the United States have placed the security of our Nation before their own safety. America will be forever grateful for their service and sacrifice. On Memorial Day, we honor those who have paid the ultimate price for our freedom.

Defending the ideals of our Nation has required the service and sacrifice of those from every generation. From Valley Forge, across Europe and Asia, and in Afghanistan and Iraq, courageous Americans have given their lives so that others could live in freedom. These Soldiers, Sailors, Airmen, Marines, and Coast Guardsmen took an oath to defend America, and they upheld that oath with bravery and decency. They have liberated the oppressed, spread freedom and peace, and set a standard of courage and compassion for our Nation. All who enjoy the blessings of liberty live in their debt.

This debt of gratitude extends also to the families who stood by our servicemen and women in times of war and times of peace. Each of the fallen has left behind loved ones who carry a burden of grief, and all Americans are inspired by the strength of these families.

At this important time in the history of freedom, a new generation of Americans is defending our flag and our liberty. These men and women carry on the legacy of our Nation's fallen heroes and demonstrate that the United States Armed Forces remain the greatest force for freedom in human history.

Those who lost their lives in the defense of freedom helped protect our citizens and lay the foundation of peace for people everywhere. On Memorial Day, a grateful Nation pays tribute to their personal courage, love of country, and dedication to duty.

In respect for their devotion to America, the Congress, by a joint resolution approved on May 11, 1950, as amended (64 Stat. 158), has requested the President to issue a proclamation calling on the people of the United States to observe each Memorial Day as a day of prayer for permanent peace and designating a period on that day when the people of the United States might unite in prayer. The Congress, by Public Law 106-579, has also designated the minute beginning at 3:00 p.m. local time on that day as a time for all Americans to observe the National Moment of Remembrance.

NOW, THEREFORE, I, GEORGE W. BUSH, President of the United States of America, do hereby proclaim Memorial Day, May 29, 2006, as a day of prayer for permanent peace, and I designate the hour beginning in each locality at 11:00 a.m. of that day as a time to unite in prayer. I also ask all Americans to observe the National Moment of Remembrance beginning at 3 p.m., local time, on Memorial Day. I encourage the media to participate in these observances. I also request the Governors of the United States and the Commonwealth of Puerto Rico, and the appropriate officials of all units of government, to direct that the flag be flown at half-staff until noon on this Memorial Day on all buildings, grounds, and naval vessels throughout the United States, and in all areas under its jurisdiction and control. I also request the people of the United States to display the flag at half-staff from their homes for the customary forenoon period.

IN WITNESS WHEREOF, I have hereunto set my hand this sixteenth day of May, in the year of our Lord two thousand six, and of the Independence of the United States of America the two hundred and thirtieth.

B

[FR Doc. 06-4719

Filed 5-17-06; 10:52 am]

Billing code 3195-01-P